DEPARTMENT OF HEALTH AND HUMAN SERVICES

National Institutes of Health

Submission for OMB Review; 30-Day Comment Request Generic Clearance for the Collection of Qualitative Feedback on Agency Service Delivery (NIH)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Mikia Currie, Project Clearance Officer, Office of Policy for Extramural Research Administration, 6705 Rockledge Drive, Suite 350, Bethesda, Maryland 20892 or call non-toll-free number (301) 435-0941 or email your request, including your address to: curriem@mail.nih.gov.

SUPPLEMENTARY INFORMATION: This proposed information collection was previously published in the Federal Register on April 10th, 2024 (89 FR 25275) and allowed 60 days for public comment. No public comments were received. The purpose of this notice is to allow an additional 30 days for public comment.

The National Institutes of Health (NIH) may not conduct or sponsor, and the respondent is not required to respond to, an information collection that has been extended, revised, or implemented on or after October 1, 1995, unless it displays a currently valid Office of Management and Budget (OMB) control number.

In compliance with section 3507(a)(1)(D) of the Paperwork Reduction Act of 1995, NIH has submitted to OMB a request for review and approval of the information collection listed below.

Proposed Collection: Generic Clearance for the Collection of Qualitative Feedback on Agency Service Delivery, EXTENSION, 0925-0648, expiration date 06/30/2024, National Institutes of Health (NIH).

Need and Use of Information Collection: There are no substantive changes being requested for this submission. The information collection activity will garner qualitative customer and stakeholder feedback in an efficient, timely manner, in accordance with the Administration's commitment to improving service delivery. This generic clearance will continue to provide information about the NIH Institutes and Centers customer or stakeholder perceptions, experiences, and expectations, provide an early warning of issues with service, or focus attention on areas where communication, training, or changes in operations might improve delivery of products or services. It will also allow feedback to contribute directly to the improvement of program management. Feedback collected under this generic clearance will provide useful information, but it will not yield data that can be generalized to the overall population.

OMB approval is requested for 3 years. There are no costs to respondents other than their time. The total estimated annualized burden hours are 103,083.

Estimated Annualized Burden Hours
Type of collection | Number of respondents | Annual frequency per response | Average time per response (in hours) | Total annual burden hours
Customer Satisfaction Surveys | 1,000 | 1 | 30/60 | 500
In-Depth Interviews (IDIs) or Small Discussion Groups | 1,000 | 1 | 90/60 | 1,500
Focus Groups | 1,000 | 1 | 90/60 | 1,500
Usability and Pilot Testing | 150,000 | 1 | 5/60 | 12,500
Conference/Training—Pre-and Post-Surveys | 100,000 | 2 | 10/60 | 33,333
NIH-Wide Basic Abstract Form | 50,000 | 1 | 1 | 50,000
NIH-Wide Basic Registration Form | 75,000 | 1 | 3/60 | 3,750
Total | 378,000 | 478,000 |  | 103,083

Dated: June 17, 2024.
Lawrence A. Tabak,
Principal Deputy Director, National Institutes of Health.

[FR Doc. 2024-13914 Filed 6-24-24; 8:45 am]

BILLING CODE 4140-01-P